FEDERAL COMMUNICATIONS COMMISSION

47 CFR Part 73

[DA 01-804; MM Docket No. 01-80, RM-10089; MM Docket No. 01-81; RM-10090]

Radio Broadcasting Services; Eagle Lake, TX; Montana City, MT

AGENCY: Federal Communications Commission.

ACTION: Proposed rule.

SUMMARY: This document proposes two allotments. The Commission requests comments on a petition filed by Stargazer Broadcasting, Inc., proposing the allotment of Channel 237C3 at Eagle Lake, Texas, as the community's first local aural transmission service. Channel 237C3 can be allotted to Eagle Lake in compliance with the Commission's minimum distance separation requirement with a site restriction of 16.4 kilometers (10.2 miles) west to avoid short-spacings to the licensed sites of Station KVIC(FM), Channel 236C3, Victoria, Texas, and Station KIKK-FM, Channel 239C, Houston, Texas. The coordinates for Channel 237C3 at Eagle Lake are 29-35-15 North Latitude and 96-30-03 West Longitude. The Commission requests comments on a petition filed by Montana Magic Investments, Inc., proposing the allotment of Channel 293A at Montana City, Montana, as the community's first local aural transmission service. Channel 293A can be allotted to Montana City in compliance with the Commission's minimum distance separation requirements with a site restriction of 3.8 kilometers (2.4 miles) north to avoid a short-spacing to the licensed site of Station KWYS-FM, Channel 293C, Island Park, Idaho. The coordinates for Channel 293A at Montana City are 46-33-43 North Latitude and 111-57-39 West Longitude. Since Montana City is located within 320 kilometers (200 miles) of the U.S.-Canadian border, concurrence of the Canadian government has been requested.

DATES: Comments must be filed on or before May 21, 2001, and reply comments on or before June 5, 2001.

ADDRESSES: Federal Communications Commission, Washington, DC 20554. In addition to filing comments with the FCC, interested parties should serve the petitioner, his counsel, or consultant, as follows: David P. Garland, President, Stargazer Broadcasting, Inc., P.O. Box 519, Woodville, Texas 75979 (Petitioner); Roger Lonnquist, Montana Magic Investments, Inc., P.O. Box 4218, Helena, Montana 59604 (Petitioner).

FOR FURTHER INFORMATION CONTACT: Sharon P. McDonald, Mass Media Bureau, (202) 418-2180.

SUPPLEMENTARY INFORMATION: This is a synopsis of the Commission's Notice of Proposed Rule Making, MM Docket No. 01-80 and MM Docket No. 01-81, adopted March 21, 2001, and released March 30, 2001. The full text of this Commission decision is available for inspection and copying during normal business hours in the FCC Reference Information Center (Room CY-A257), 445 12th Street, SW., Washington, DC. The complete text of this decision may also be purchased from the Commission's copy contractor, International Transcription Service, Inc., (202) 857-3800, 1231 20th Street, NW., Washington, DC 20036.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR Part 73 as follows:

PART 73—RADIO BROADCAST SERVICES

1. The authority citation for Part 73 continues to reads as follows:

Authority: 47 U.S.C. 154, 303, 334 and 336.

§ 73.202 [Amended]

2. Section 73.202(b), the Table of FM Allotments under Texas, is amended by adding Eagle Lake, Channel 237C3.

3. Section 73.202(b), the Table of FM Allotments under Montana, is amended by adding Montana City, Channel 293A.

Federal Communications Commission.
John A. Karousos,
Chief, Allocations Branch, Policy and Rules Division, Mass Media Bureau.

[FR Doc. 01-9836 Filed 4-19-01; 8:45 am]

BILLING CODE 6712-01-P